DEPARTMENT OF ENERGY

Federal Energy Regulatory Commission

Notice of Scoping Meetings and Site Visit and Soliciting Scoping Comments

April 4, 2005.

Take notice that the following hydroelectric application has been filed with Commission and is available for public inspection:

a. Type of Application: New Major License.

b. Project No.: 2153-012.

c. Date filed: April 30, 2003.

d. Applicant: United Water Conservation District.

e. Name of Project: Santa Felicia Hydroelectric Project.

f. Location: On the Piru Creek in Ventura County, California. The project affects 174.5 acres of federal land within the Los Padres and Angeles National Forests.

g. Filed Pursuant to: Federal Power Act, 16 U.S.C. 791(a)—825(r).

h. Applicant Contact: Ms. Dana Wisehart, United Water Conservation District, 106 North 8th Street, Santa Paula, CA 93060.

i. FERC Contact: Kenneth Hogan at (202) 502-8434 or kenneth.hogan@ferc.gov.

j. Deadline for filing scoping comments: May 16, 2005.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The existing Santa Felicia Project consists of: (1) A 200-foot-tall, 1200-foot-long earth fill dam; (2) an 88,000 acre-foot reservoir; (3) an ungated spillway and associated works, (4) a powerhouse with two units having a total installed capacity of 1,434-kilowatts and (5) appurtenant facilities. The applicant estimates that the total average annual generation would be 1,300 megawatthours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

n. Scoping Process: The Commission intends to prepare an Environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

DATE: Tuesday, May 3, 2005

TIME: 8:30 am to 12:30 pm (PST)

PLACE: United Water Conservation District

ADDRESS: 106 North 8th Street, Santa Paula, CA 93060

Public Scoping Meeting

DATE: Tuesday, May 3, 2005

TIME: 7:00 pm to 10:00 pm (PST)

PLACE: United Water Conservation District

ADDRESS: 106 North 8th Street, Santa Paula, CA 93060

Copies of the Scoping Document (SD1) outlining the subject areas to be addressed in the EIS were distributed to the parties on the Commission(s mailing list. Copies of the SD1 will be available at the scoping meeting or may be viewed on the web at http://www.ferc.gov using the “eLibrary” link (see item m above).

Site Visit

The Applicant and FERC staff will conduct a project site visit beginning at 2 p.m. on Tuesday, May 3, 2005. All interested individuals, organizations, and agencies are invited to attend. All participants should meet at the offices of United Water Conservation District at 106 North 8th Street, Santa Paula, CA. All participants are responsible for their own transportation to the site. Anyone with questions about the site visit should contact John Dickenson of United Water Conservation District directly at (805) 525-4431 or via e-mail at johnd@unitedwater.org.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff(s preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Magalie R. Salas,
Secretary.

[FR Doc. E5-1645 Filed 4-8-05; 8:45 am]

BILLING CODE 6717-01-P